DEPARTMENT OF AGRICULTURE

Forest Service

Notice of Proposed New Fee Site; Federal Lands Recreation Enhancement Act, (Title VIII, Pub. L. 108-447)

AGENCY: Arapaho-Roosevelt National Forest, USDA Forest Service.

ACTION: Notice of Proposed New Fee Site.

SUMMARY: The Arapaho-Roosevelt National Forest is proposing to charge a $90 expanded amenity recreation fee for the overnight rental of the historic Squaw Mountain Fire Lookout. Fees are assessed based on the level of amenities and services provided, cost of operations and maintenance, market assessment and public comment. The fee is proposed and will be determined upon further analysis and public comment. Funds from fees would be used for the continued operation, maintenance and improvements of this lookout. An analysis of the lookout shows that the proposed fees are reasonable and typical of comparable sites.

DATES: Comments will be accepted through February 28, 2010. New fees would begin the summer 2010.

ADDRESSES: Daniel Lovato, District Ranger, Clear Creek Ranger District, P.O. Box 3307, Idaho Springs, CO 80452.

FOR FURTHER INFORMATION CONTACT: Nicole Malandri, Clear Creek Ranger District Recreation Fee Manager, 303-567-3016.

SUPPLEMENTARY INFORMATION: The Federal Recreation Lands Enhancement Act (Title VII, Pub. L. 108-447) instruct the Secretary of Agriculture to publish a six month advance notice in the Federal Register whenever new recreation fee areas are established. Once public involvement is complete, these new fees will be reviewed by a Recreation Resource Advisory Committee prior to a final decision and implementation. People wanting to rent Squaw Mountain Lookout will need to do so through the National Recreation Reservation Service, at http://www.recreation.gov or by calling 1-877-444-6777 when it becomes available.

Dated: November 24, 2009.
Glenn P. Casamassa,
Forest Supervisor.

[FR Doc. E9-29234 Filed 12-8-09; 8:45 am]

BILLING CODE 3410-11-M